DEPARTMENT OF HOMELAND SECURITY

Coast Guard

[Docket No. USCG-2017-0466]

Removal of Conditions of Entry for Certain Vessels Arriving to the United States From Two Port Facilities in Côte d'Ivoire

AGENCY: Coast Guard, DHS.

ACTION: Notice.

SUMMARY: The Coast Guard announces that it is modifying the conditions of entry for vessels arriving to the United States from Côte d'Ivoire by adding an exception to the conditions of entry for two facilities in the Republic of Côte d'Ivoire.

DATES: The policy takes effect January 3, 2018.

FOR FURTHER INFORMATION CONTACT: For information about this document call or email Juliet Hudson, International Port Security Evaluation Division, United States Coast Guard, telephone 202-372-1173.

SUPPLEMENTARY INFORMATION:

Discussion

The authority for this notice is 5 U.S.C. 552(a), 46 U.S.C. 70110, and Department of Homeland Security Delegation No. 0170.1(II)(97.f). Section 70110(a) provides that the Secretary of Homeland Security may impose conditions of entry into the United States from ports that are not maintaining effective anti-terrorism measures. Section 70110(d) provides that these conditions may be removed upon Secretary's determination that the measures are maintained. The Secretary delegated the authority to carry out the provisions of these sections to the Coast Guard. Section 552(a)(1)(E) requires an agency to provide a Federal Register notice to the public in regards to any amendment, revision or repeal of a rule adopted as authorized by law. The Regulatory Docket for this Notice (USCG-2017-0466) contains previous notices imposing or removing conditions of entry on vessels arriving from certain countries.

On May 27, 2011, the Coast Guard determined that ports in the Republic of Côte d'Ivoire did not maintain effective anti-terrorism measures and that Côte d'Ivoire's designated authority's oversight, access control and cargo control remained deficient (76 FR 30954). However, since 2014 the Coast Guard has assessed and found that the port facilities listed in Table 1 do have effective anti-terrorism measures. As such, port facilities listed in Table 1 are exempted from the conditions of entry previously imposed.

Table 1—Exempted Port Facilities
Port | IMO port No.
Carena Shipyard | CIABJ-0004
Terminal A Containers, Abidjan | CIABJ-0015

Accordingly, beginning January 3, 2018, the conditions of entry shown in Table 2 below will apply to any vessel that visited a non-exempted Côte d'Ivoire port facility in its last five port calls.

Table 2—Conditions of Entry for Vessels Visiting Côte d'Ivoire's Ports Not Listed in Table 1
No. | Each vessel must:
1 | Implement measures per the vessel's security plan equivalent to Security Level 2 while in a port in the Republic of Côte d'Ivoire. As defined in the ISPS Code and incorporated herein, “Security Level 2” refers to the “level for which appropriate additional protective security measures shall be maintained for a period of time as a result of heightened risk of a security incident.”
2 | Ensure that each access point to the vessel is guarded and that the guards have total visibility of the exterior (both landside and waterside) of the vessel while the vessel is in ports in the Republic of Côte d'Ivoire.
3 | Guards may be provided by the vessel's crew; however, additional crewmembers should be placed on the vessel if necessary to ensure that limits on maximum hours of work are not exceeded and/or minimum hours of rest are met, or provided by outside security forces approved by the vessel's master and Company Security Officer. As defined in the ISPS Code and incorporated herein, “Company Security Officer” refers to the “person designated by the Company for ensuring that a ship security assessment is carried out; that a ship security plan is developed, submitted for approval, and thereafter implemented and maintained and for liaison with port facility security officers and the ship security officer.”
4 | Attempt to execute a Declaration of Security while in a port in the Republic of Côte d'Ivoire.
5 | Log all security actions in the vessel's log; and
6 | Report actions taken to the cognizant Coast Guard Captain of the Port (COTP) prior to arrival into U.S. waters.
7 | In addition, based on the findings of the Coast Guard boarding or examination, the vessel may be required to ensure that each access point to the vessel is guarded by armed, private security guards and that they have total visibility of the exterior (both landside and waterside) of the vessel while in U.S. ports. The number and position of the guards has to be acceptable to the cognizant COTP prior to the vessel's arrival.

The list of countries that do not maintain effective anti-terrorist measures is available in a Port Security Advisory notice available at http://www.dco.uscg.mil/Our-Organization/Assistant-Commandant-for-Prevention-Policy-CG-5P/International-Domestic-Port-Assessment/; Port Security Advisory link.

Dated: November 1, 2017.
Charles W. Ray,
Deputy Commandant for Operations, USCG.

[FR Doc. 2017-27402 Filed 12-19-17; 8:45 am]

BILLING CODE 9110-04-P